DEPARTMENT OF LABOR

Employment and Training Administration

Workforce Investment Act (WIA) Section 167—The National Farmworker Jobs Program (NFJP)

AGENCY: Employment and Training Administration (ETA), Department of Labor.

ACTION: Notice of formula allocations for the Program Year (PY) 2007 NFJP, request for comments.

SUMMARY: Under Section 182(d) of the WIA of 1998, ETA is publishing the PY 2007 allocations for the NFJP, authorized under Section 167 of the WIA. The allocations are distributed to the states by a formula that estimates, by state, the relative demand for NFJP services. The allocations in this notice apply to the PY beginning July 1, 2007.

DATES: Comments must be submitted on or before May 29, 2007.

ADDRESSES: Comments should be sent to Alina M. Walker, Program Manager, Division of Adult Services, Room S-4209, Employment and Training Administration, U.S. Department of Labor, 200 Constitution Avenue, NW., Washington, DC 20210, e-mail address: walker.alina@dol.gov.

FOR FURTHER INFORMATION CONTACT: Alina M. Walker, Program Manager, Division of Adult Services, Room S-4209, Employment and Training Administration, U.S. Department of Labor, 200 Constitution Avenue, NW., Washington, DC 20210, telephone: (202) 693-2706 (this is not a toll-free number).

SUPPLEMENTARY INFORMATION:

I. Background.

On May 19, 1999, ETA published a notice establishing new factors for the formula that allocates funds available for the NFJP in the Federal Register at 64 FR 27390. This Federal Register notice is available at the following Internet address: http://www.doleta.gov/MSFW/pdf/allocationtable.pdf

The May 19, 1999, Federal Register may also be obtained by submitting a mail, e-mail or telephone request to Alina M. Walker, Program Manager, Division of Adult Services, Room S-4209, Employment and Training Administration, U.S. Department of Labor, 200 Constitution Avenue, NW., Washington, D.C. 20210, e-mail address: walker.alina@dol.gov, telephone number (202) 693-2706 (this is not a toll-free number).

The May 19, 1999, notice explained the purpose of the formula, i.e., distributing funds geographically by state service area on the basis of each area's relative share of farmworkers who are eligible for enrollment in the NFJP. The data used to run the formula is comprised of a combination of data sets that were selected to yield the relative share distribution across states of eligible farmworkers. The combined-data set driven formula is substantially more relevant to the purpose of aligning the allocations with the eligible population than the allocations determined by the prior formula.

For PY 2007, the data factors used in the formula remain unchanged since they were first developed in 1999. The data sets used for determining each State's relative share of eligible farmworkers for PY 2007 were last updated in PY 2005 with more recent data available from the 2000 Census, the 2003 National Agricultural Workers Survey (NAWS), and the 2002 Census of Agriculture, and also remain unchanged.

II. Limitations on Uses of Section 167 Funds

In appropriating the funds for PY 2007, Congress provided in the Fiscal Year 2007 Continuing Appropriations Resolution (Pub. L. 110-5) $79,752,000 for carrying out Section 167 of the Workforce Investment Act of 1998, including $74,302,000 for state service area grants, $4,950,000 for migrant and seasonal farmworker housing grants, and $500,000 for Section 167 training, technical assistance and related activities. Additional funding for migrant rest center activities is included in the $500,000 available for technical assistance and training.

III. PY 2007 Allocation Formula

The calculation of the PY 2007 formula allocation distribution incorporates the state-by-state relative shares of eligible farmworkers developed for the PY 2005 formula allocations, using the updated data sets described above, with various adjustments applied since then. The PY 2005 calculation adjusted those state-by-state relative shares of eligible farmworkers by “hold-harmless” and “stop-loss”/”stop-gain” limits due to the introduction of the updated data. The following year, the PY 2006 formula allocations were proportionately based on the PY 2005 formula allocations and further adjusted by an additional $3.8 million appropriated by Congress for states whose PY 2005 allocation had been reduced as a result of the updated data used for the PY 2005 allocation distribution. Detailed descriptions of the formula methodology for PY 2005 and 2006 are provided in the applicable announcements.

The PY 2007 appropriation for the WIA Section 167 program is $74,302,000, which is $470 less than the corresponding PY 2006 appropriation. To maintain stability of funding for the program and consistency with the PY 2006 congressional directions to the Department, the Department will distribute the $74,302,000 of PY 2007 formula funding among all states in the same proportion as the distribution of the PY 2006 formula allocations.

IV. State Combinations

We anticipate a single plan of service for operating the PY 2007 NFJP in the jurisdiction comprised of Delaware and Maryland and the jurisdiction comprised of Rhode Island and Connecticut.

V. PY 2007 Allocations

The “Allocation Table” provides the allocations for the NFJP in PY 2007. NFJP grantees and other interested organizations should use these figures in preparing proposals in response to the PY 2007 Solicitation for Grant Applications (SGA) for the National Farmworker Jobs Program (NFJP).

Signed at Washington, DC, this 26th day of April 2007.
Emily Stover Derocco,
Assistant Secretary, Employment and Training Administration.

BILLING CODE 4510-FN-P

[FR Doc. E7-8343 Filed 5-1-07; 8:45 am]

BILLING CODE 4510-FN-C